DEPARTMENT OF ENERGY

Federal Energy Regulatory Commission

[Docket No. EC01-33-000, et al.]

FPL Group, Inc., et al. Electric Rate and Corporate Regulation Filings

December 5, 2000.

Take notice that the following filings have been made with the Commission:

1. FPL Group, Inc., on behalf of itself and its public utility affiliates, and Entergy Corporation, on behalf of itself and its public utility affiliates

[Docket No. EC01-33-000]

Take notice that on November 30, 2000, FPL Group, Inc. (FPL Group), on behalf of itself and its public utility affiliates, and Entergy Corporation (Entergy), on behalf of itself and its public utility affiliates, filed with the Federal Energy Regulatory Commission an application pursuant to section 203 of the Federal Power Act for authorization of a disposition of jurisdictional facilities whereby FPL Group and Entergy will become wholly-owned subsidiaries of a newly formed holding company (the Merged Company). FPL Group, through its subsidiaries and affiliates, owns and operates facilities for the generation and transmission of electricity throughout most of the east and lower west coasts of Florida. Entergy, through its subsidiaries and affiliates, owns and operates facilities for the generation and transmission of electricity in Arkansas, Louisiana, Mississippi, and Texas. Both FPL Group and Entergy also indirectly own and operate independent power projects throughout the United States.

The proposed merger of FPL Group and Entergy involves the indirect transfer of control over all jurisdictional facilities owned and operated by the FPL Group and Entergy subsidiaries and affiliates. The proposed merger will be accomplished through a merger of FPL Group and Entergy with and into subsidiaries of the Merged Company, with FPL Group and Entergy being the surviving companies. As a result, each share of FPL Group common stock (other than shares held by FPL Group, Entergy, or the Merged Company) will be converted into the right to receive one share of the Merged Company common stock and each outstanding share of Entergy common stock (other than shares held by FPL Group, Entergy, or the Merged Company) will be converted into the right to receive 0.585 of a share of the Merged Company common stock.

Pursuant to 18 CFR 388.112, Applicants request confidential treatment of the Competitive Analysis Screening model (CASm) submitted by William H. Hieronymus and J. Stephen Henderson, witnesses in support of Applicants. The CASm is a proprietary computer model used by Dr. Hieronymus and Dr. Henderson to conduct their competitive analyses.

Comment date: January 30, 2001, in accordance with Standard Paragraph E at the end of this notice.

2. PPL Montour, LLC

[Docket No. EG01-36-000]

Take notice that on November 29, 2000, PPL Montour, LLC tendered for filing an Application for New Determination of Exempt Wholesale Generator Status.

Comment date: December 22, 2000, in accordance with Standard Paragraph E at the end of this notice. The Commission will limit its consideration of comments to those that concern the adequacy or accuracy of the application.

3. Duke Energy Lee, LLC

[Docket No. EG01-37-000]

Take notice that on November 30, 2000, Duke Energy Lee, LLC (Duke Lee) filed an application with the Federal Energy Regulatory Commission (the Commission) for determination of exempt wholesale generator status pursuant to Section 32 of the Public Utility Holding Company Act of 1935, as amended, and Part 365 of the Commission's regulations. Duke Lee is a Delaware limited liability company that will be engaged directly and exclusively in the business of owning and operating all or part of one or more eligible facilities to be located in Lee County, Illinois. The eligible facilities will consist of an approximately 640 MW natural gas-fired, simple cycle electric generation plant and related interconnection facilities. The output of the eligible facilities will be sold at wholesale.

Comment date: December 26, 2000, in accordance with Standard Paragraph E at the end of this notice. The Commission will limit its consideration of comments to those that concern the adequacy or accuracy of the application.

4. ISO New England Inc.

[Docket No. EL00-62-014]

Take notice that on December 1, 2000, ISO New England Inc. filed a revised implementation plan for the Congestion Management and Multi-Settlement Systems.

Comment date: January 2, 2001, in accordance with Standard Paragraph E at the end of this notice.

5. MidAmerican Energy Company

[Docket No. ER01-522-000]

Take notice that on November 29, 2000, MidAmerican Energy Company (MidAmerican) tendered for filing a Wholesale Market-Based Rate Tariff and a pro forma Service Agreement. In addition, MidAmerican tendered for filing certain modifications to its currently-effective Power Sales Tariff.

MidAmerican seeks an effective date of December 1, 2000 for all of the tariff sheets submitted with this filing.

MidAmerican states that its Wholesale Market Based Rate Tariff and pro forma Service Agreement, are being filed in order to conform to a pro forma tariff prepared by a group of representatives from various segments of the electric industry. MidAmerican states that it does not proposed to eliminate its currently effective Power Sales Tariff which permits sales of power at market based rates. However, MidAmerican proposed to revise the Power Sales Tariff to provide that MidAmerican will offer service under that tariff only to customers that (1) have an existing service agreement under the Power Sales Tariff (until the agreement expires) or (2) wish to purchase power from MidAmerican, but do not wish to sell power to MidAmerican.

Copies of this filing have been sent to the Iowa Utilities Board, Illinois Commerce Commission and South Dakota Public Utility Commission.

Comment date: December 20, 2000, in accordance with Standard Paragraph E at the end of this notice.

6. Otter Tail Power Company

[Docket No. RT01-63-001]

Take notice that on November 27, 2000, Otter Tail Power Company tendered for filing an Amendment to its Order No. 2000 compliance filing.

Comment date: December 18, 2000, in accordance with Standard Paragraph E at the end of this notice.

7. Nevada Power Company

[Docket No. ER00-2015-004]

Sierra Pacific Power Company

[Docket No. ER00-2018-004]

Take notice that on December 1, 2000, Nevada Power Company and Sierra Pacific Power Company tendered for filing their compliance filing in the above-captioned dockets.

This filing has been served on all parties on the official service list in this proceeding.

Comment date: December 22, 2000, in accordance with Standard Paragraph E at the end of this notice.

8. Central Hudson Gas & Electric Corporation

Consolidated Edison Company of New York, Inc.,

Long Island Light Company

New York State Electric & Gas Corporation

Niagara Mohawk Power Corporation

Power Authority of the State of New York

Orange and Rockland Utilities, Inc.

Rochester Gas and Electric Corporation

Docket Nos. ER97-1523-057, OA97-470-053, ER97-4234-051, (not consolidated)

Take notice that on November 28, 2000, the Members of the Transmission Owners Committee of the Energy Association of New York State, formerly know as the Member Systems of the New York Power Pool (Member Systems), tendered for filing a compliance report disclosing TSC refunds made pursuant to the Joint Offer of Settlement of November 17, 1999. The Member Systems state that these refunds have been made in compliance with the Commission's July 31, 2000 letter order in this proceeding.

A copy of this filing was served upon all persons in the Commission's official service list(s) in the captioned proceeding(s), and the respective electric utility regulatory agencies in New York, New Jersey and Pennsylvania.

Comment date: December 19, 2000, in accordance with Standard Paragraph E at the end of this notice.

9. Williams Generating Company-Hazelton

[Docket No. ER97-4587-002]

Take notice that on November 29, 2000, Williams Generating Company-Hazelton (WGCH) a power marketer selling electric power at wholesale pursuant to market-based rate authority granted to it by the Federal Energy Regulatory Commission tendered for filing an updated market power analysis in compliance with the Commission's October 23, 1997 letter order in Docket No. ER97-4587.

Comment date: December 20, 2000, in accordance with Standard Paragraph E at the end of this notice.

10. California Independent System Operator Corporation

[Docket Nos. ER98-3594-006]

Take notice that on December 1, 2000, the California Independent System Operator Corporation (ISO), tendered for filing with the Federal Energy Regulatory Commission a report prepared by the ISO's Department of Market Analysis entitled “The Firm Transmission Rights Market: Review of the First Nine Months of Operation, February 1, 2000—October 31, 2000” and a document prepared by the ISO's Market Surveillance Committee entitled “An Assessment of the February through October 2000 California ISO Firm Transmission Rights Market.” This filing was submitted in compliance with the Commission's May 3, 1999 and August 2, 1999 Orders in the above-captioned proceedings.

The ISO has served these documents upon each person on the official service list in the above-captioned proceeding. These documents are also being posted on the ISO's internet Home Page, www.caiso.com.

Comment date: December 21, 2000, in accordance with Standard Paragraph E at the end of this notice.

11. New York Independent System Operator, Inc.

[Docket Nos. ER00-3591-000, ER00-3591-001, ER00-3591-004, ER00-1969-005]

Take notice that on November 30, 2000, the New York Independent System Operator, Inc. (NYISO) tendered for filing a request for leave to submit Alternative Compliance Filing in the above-captioned proceedings. The NYISO was required to submit this compliance filing pursuant to New York Independent System Operator Inc., 93 FERC ¶ 61,142 (2000).

A copy of this filing was served upon all parties in the above-referenced dockets.

Comment date: December 26, 2000, in accordance with Standard Paragraph E at the end of this notice.

12. Sierra Pacific Power Company and Nevada Power Company

[Docket No. ER00-3188-002]

Take notice that on November 29, 2000, Sierra Pacific Power Company and Nevada Power Company tendered for filing their compliance filing in the above-captioned docket.

This filing has been served on all parties on the official service list in this proceeding.

Comment date: December 20, 2000, in accordance with Standard Paragraph E at the end of this notice.

13. Westmoreland-LG&E Partners (Roanoke Valley I)

[Docket No. ER01-538-000]

Take notice that on November 30, 2000, Westmoreland-LG&E Partners tendered for filing pursuant to Section 205 of the Federal Power Act, and Part 35 of the Commission's Regulations, the Third Amendment and Restatement of the Power Purchase and Operating Agreement By and Between Westmoreland-LG&E Partners as Successor in Interest to Beckley Cogeneration Company and Virginia Electric and Power Company for sales from its Roanoke Valley I (ROVA I) facility entitled First Revised Rate Schedule FERC No 1. Westmoreland-LG&E Partners have requested certain waivers of the Commission's regulations.

Comment date: December 21, 2000, in accordance with Standard Paragraph E at the end of this notice.

14. Public Service Company of New Mexico

[Docket No. ER01-539-000]

Take notice that on November 30, 2000, Public Service Company of New Mexico (PNM), tendered for filing an executed service agreement for short-term firm point to point transmission service under the terms of PNM's Open Access Transmission Tariff (OATT) with El Paso Merchant Energy, L.P. (El Paso), dated November 7, 2000. PNM's filing is available for public inspection at its offices in Albuquerque, New Mexico.

Copies of the filing have been sent to El Paso and to the New Mexico Public Regulation Commission.

Comment date: December 21, 2000, in accordance with Standard Paragraph E at the end of this notice.

15. Wisconsin Public Service Corporation

[Docket No. ER01-540-000]

Take notice that on November 30, 2000, on behalf of WPS Resources Operating Companies (WPSR), Wisconsin Public Service Corporation (WPSC), tendered for filing a service agreement between WPSC and Stratford Water and Electric Utility (STRATFORD). Service Agreement No. 11 provides service to STRATFORD, under WPSC's W-1A full requirements tariff.

The company states that copies of this filing have been served upon STRATFORD and to the State Commissions where WPSC serves at retail.

Comment date: December 21, 2000, in accordance with Standard Paragraph E at the end of this notice.

16. Jersey Central Power & Light Company

Metropolitan Edison Company

Pennsylvania Electric Company

[Docket No. ER01-541-000]

Take notice that on November 30, 2000, Jersey Central Power & Light Company, Metropolitan Edison Company and Pennsylvania Electric Company (individually doing business as GPU Energy), tendered for filing a Notice of Cancellation of the Service Agreement between GPU Energy and El Paso Power Services Company (now El Paso Merchant Energy, L.P.), FERC Electric Rate Schedule, Second Revised Volume No. 5, Service Agreement No. 19.

GPU Energy requests that cancellation be effective the 29th day of January 2001.

Comment date: December 21, 2000, in accordance with Standard Paragraph E at the end of this notice.

17. STI Capital Company

[Docket No. ER01-542-000]

Take notice that on November 29, 2000, STI Capital Company. (STI), tendered for filing with the Commission an application for acceptance of STI's Tariff FERC Electric No. 1; the granting of certain blanket approvals including authority to sell electricity at market-based rates and the waiver of certain Commission Regulations. STI intends to engage in wholesale electric power sales from the York facility that currently is owned by, and being transferred from, Solar Turbines Incorporated.

Comment date: December 21, 2000, in accordance with Standard Paragraph E at the end of this notice.

18. Florida Power & Light Company and Entergy Services, Inc.

[Docket No. ER01-543-000]

Take notice that on November 30, 2000, Florida Power & Light Company (FPL) and Entergy Services, Inc., on behalf of the Entergy Operating Companies (the Entergy Operating Companies are Entergy Arkansas, Inc., Entergy Gulf States, Inc., Entergy Louisiana, Inc., Entergy Mississippi, Inc., and Entergy New Orleans, Inc.) (collectively, Applicants) tendered for filing a System Integration Agreement to take effect upon the consummation of the proposed merger of FPL Group, Inc., parent company of FPL, and Entergy Corporation, parent company of the Entergy Operating Companies.

Applicants state that they have served a copy of the filing on the regulators of FPL and the Entergy Operating Companies.

Comment date: December 21, 2000, in accordance with Standard Paragraph E at the end of this notice.

19. Cook Inlet Power, LP

[Docket No. ER01-544-000]

Take notice that on November 30, 2000, Cook Inlet Power, LP (Cook Inlet LP) tendered for filing a petition for Commission acceptance of Cook Inlet LP Rate Schedule FERC No. 1; the granting of certain blanket approvals, including the authority to sell electricity at market-based rates; and the waiver of certain Commission Regulations.

Cook Inlet LP intends to engage in wholesale electric power and energy purchases and sales as a marketer. Cook Inlet LP is not in the business of generating or transmitting electric power.

Comment date: December 21, 2000, in accordance with Standard Paragraph E at the end of this notice.

20. Duke Energy Lee, LLC

[Docket No. ER01-545-000]

Take notice that on November 30, 2000, Duke Energy Lee, LLC (Duke Lee), tendered for filing pursuant to Section 205 of the Federal Power Act its proposed FERC Electric Tariff No. 1.

Duke Lee seeks authority to sell energy and capacity, as well as ancillary services, at market-based rates, together with certain waivers and preapprovals. Duke Lee also seeks authority to sell, assign, or transfer transmission rights that it may acquire in the course of its marketing activities.

Duke Lee seeks an effective date sixty (60) days from the date of filing for its proposed rate schedules.

Comment date: December 21, 2000, in accordance with Standard Paragraph E at the end of this notice.

21. MidAmerican Energy Company

[Docket No. ER01-548-000]

Take notice that on November 30, 2000, MidAmerican Energy Company (MidAmerican), 666 Grand Avenue, Des Moines, Iowa 50309, tendered for filing with the Commission two (2) Firm Transmission Service Agreement entered into by MidAmerican, as transmission provider, and Ameren Energy Marketing Company, as wholesale merchant. Each Agreement is dated November 9, 2000 and has been entered into pursuant to MidAmerican's Open Access Transmission Tariff.

MidAmerican requests an effective date of November 9, 2000 for each Agreement and seeks a waiver of the Commission's notice requirement. MidAmerican has served a copy of the filing on the Iowa Utilities Board, the Illinois Commerce Commission and the South Dakota Public Utilities Commission.

Comment date: December 21, 2000, in accordance with Standard Paragraph E at the end of this notice.

22. Illinois Power Company

[Docket No. ER01-549-000]

Take notice that on December 1, 2000, Illinois Power Company (Illinois Power), 500 South 27th Street, Decatur, Illinois 65251-2200, tendered for filing with the Commission a Service Agreement for Non-Firm Point-To-Point Transmission Service with Upper Peninsula Power Company (UPPC) entered into pursuant to Illinois Power's Open Access Transmission Tariff.

Illinois Power requests an effective date of November 3, 2000, for the Agreement and accordingly seeks a waiver of the Commission's notice requirement.

Illinois Power has served a copy of the filing on UPPC.

Comment date: December 22, 2000, in accordance with Standard Paragraph E at the end of this notice.

23. Entergy Services, Inc.

[Docket No. ER01-550-000]

Take notice that on December 1, 2000, Entergy Services, Inc., on behalf of Entergy Gulf States, Inc., tendered for filing an Interconnection and Operating Agreement with Cottonwood Energy Company L.P. (Cottonwood), and a Generator Imbalance Agreement with Cottonwood.

Comment date: December 22, 2000, in accordance with Standard Paragraph E at the end of this notice.

24. Western Systems Power Pool, Inc.

[Docket No. ER01-551-000]

Take notice that on December 1, 2000, the Western Systems Power Pool (WSPP) tendered for filing further updates and correct aspects of the WSPP Agreement.

Comment date: December 22, 2000, in accordance with Standard Paragraph E at the end of this notice.

25. Virginia Electric and Power Company

[Docket No. ER01-553-000]

Take notice that on December 1, 2000, Virginia Electric and Power Company (Dominion Virginia Power), tendered for filing an amendment, “Rider SB1286 For Resale Service to Virginia Municipal Electric Association No. 1 under Schedule VMEA-RS” (the Rider), to the Agreement for the Purchase of Electricity for Resale Between Dominion Virginia Power and Virginia Municipal Electric Association Number 1 (VMEA) dated as of January 12, 1989, First Revised Rate Schedule FERC No. 109. The Rider reflects Senate Bill 1286 passed by the 1999 Virginia General Assembly which provides for the elimination of the gross receipts tax and the imposition of the Virginia state income tax effective January 1, 2001.

Dominion Virginia Power requests that the Rider become effective January 1, 2001.

Dominion Virginia Power states that copies of the filing have been served upon VMEA and the Virginia State Corporation Commission.

Comment date: December 22, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-31702 Filed 12-12-00; 8:45 am]

BILLING CODE 6717-01-P